DEPARTMENT OF THE INTERIOR

Bureau of Land Management

[NV-930-1430-ET; NEV-042819]

Public Land Order No. 7450; Partial Revocation of Secretarial Order dated July 2, 1902; Nevada

AGENCY: Bureau of Land Management, Interior.

ACTION: Public Land Order.

SUMMARY: This order revokes a Secretarial order insofar as it affects 1,262.05 acres of public lands withdrawn for the Bureau of Reclamation's Newlands Project. The lands are no longer needed for reclamation purposes, and the revocation is necessary to facilitate a pending land exchange. The lands are temporarily closed to surface entry and mining due to an overlapping segregation for an exchange proposal. The lands have been and will remain open to mineral leasing.

EFFECTIVE DATE: July 3, 2000.

FOR FURTHER INFORMATION CONTACT: Dennis J. Samuelson, BLM Nevada State Office, P.O. Box 12000, Reno, Nevada 89520-0006, 775-861-6532.

By virtue of the authority vested in the Secretary of the Interior by Section 204 of the Federal Land Policy and Management Act of 1976, 43 U.S.C. 1714 (1994), it is ordered as follows:

1. The Secretarial Order dated July 2, 1902, which withdrew public lands for the Bureau of Reclamation's Newlands Project, is hereby revoked insofar as it affects the following described lands:

Mount Diablo Meridian

T. 20 N., R. 25 E.,

Sec. 4, lot 5, lots 10 to 16, inclusive, lots 18 to 19, inclusive, lots 22 to 25, inclusive, and S½;

Sec. 6, lots 8 to 23, inclusive.

The areas described aggregate 1,262.05 acres in Washoe and Lyon Counties.

2. At 9 a.m. on July 3, 2000, the lands will be opened to the operation of the public land laws generally, subject to valid existing rights, the provisions of existing withdrawals, other segregations of record, and the requirements of applicable law. All valid applications received at or prior to 9 a.m. on July 3, 2000, shall be considered as simultaneously filed at that time. Those received thereafter shall be considered in the order of filing.

Dated: May 22, 2000.
Sylvia V. Baca,
Assistant Secretary of the Interior.

[FR Doc. 00-13864 Filed 6-1-00; 8:45 am]

BILLING CODE 4310-HC-P